SMALL BUSINESS ADMINISTRATION

[Declaration of Disaster #3413]

State of Missouri; (Amendment #2)

In accordance with information received from the Federal Emergency Management Agency, dated May 24, 2002, the above numbered declaration is hereby amended to include Barry, Barton, Camden, Cedar, Christian, Dade, Dallas, Greene, Hickory, Jasper, Laclede, Lawrence, McDonald, Mississippi, New Madrid, Newton, Pemiscot, Polk, Scott, Stone, Taney, Vernon, Webster and Wright Counties in the State of Missouri as disaster areas due to damages caused by severe storms, tornadoes and flooding beginning on April 24, 2002 and continuing.

In addition, applications for economic injury loans from small businesses located in the following contiguous counties may be filed until the specified date at the previously designated location: Bates, Benton, Miller, Morgan and St. Clair Counties in Missouri; Benton, Boone and Carroll Counties in Arkansas; Bourbon, Cherokee, Crawford and Linn Counties in Kansas; Ballard, Carlisle, Fulton and Hickman Counties in Kentucky; Delaware and Ottawa Counties in Oklahoma; and Dyer and Lake Counties in Tennessee. All other counties contiguous to the above-named primary counties have been previously declared.

The economic injury numbers assigned are 9P8200 for Kentucky, 9P8300 for Kansas; 9P8400 for Oklahoma; and 9P8500 for Tennessee.

All other information remains the same, i.e., the deadline for filing applications for physical damage is July 7, 2002, and for loans for economic injury the deadline is February 10, 2003.

(Catalog of Federal Domestic Assistance Program Nos. 59002 and 59008).
Dated: May 29, 2002.
Herbert L. Mitchell,
Associate Administrator, for Disaster Assistance.

[FR Doc. 02-13987 Filed 6-3-02; 8:45 am]

BILLING CODE 8025-01-P